DEPARTMENT OF TRANSPORTATION

National Highway Traffic Safety Administration

Denial of Motor Vehicle Defect Petition

AGENCY: National Highway Traffic Safety Administration (NHTSA), Department of Transportation.

ACTION: Denial of petition for a defect investigation.

SUMMARY: This notice sets forth the reasons for the denial of a petition submitted by Mr. Jon Welch, dated February 15, 2003, and received by the NHTSA's Office of Defects Investigation (ODI) on March 10, 2003, under 49 U.S.C. 30162, requesting that the agency commence a proceeding to determine the existence of a defect related to motor vehicle safety with respect to the air bag system in model year (MY) 1999 Hyundai Sonata vehicles. After a review of the petition and other information, NHTSA has concluded that further expenditure of the agency's investigative resources on the issues raised by the petition does not appear to be warranted. The agency accordingly has denied the petition. The petition is hereinafter identified as DP03-001.

FOR FURTHER INFORMATION CONTACT: Mr. Christopher J. Wiacek, Defects Assessment Division, Office of Defects Investigation, NHTSA, 400 Seventh Street, SW., Washington, DC 20590. Telephone: (202) 366-7042.

SUPPLEMENTARY INFORMATION: By letter dated February 15, 2003, Mr. Jon Welch submitted a petition requesting that the agency investigate the performance of the frontal air bag system of MY 1999 Hyundai Sonata vehicles (subject vehicles). The petitioner alleges that the front air bags do not deploy when a vehicle is subjected to certain frontal crashes. Mr. Welch petitioned the agency after his vehicle was involved in a frontal crash in which the air bags did not deploy and the driver sustained injuries.

ODI requested information from Hyundai America Technical Center, Inc. (Hyundai), pertaining to the air bag system in MY 1999 through 2001 Sonata vehicles. The subject vehicle was a new design for MY 1999. According to Hyundai, MY 2000 and 2001 Sonatas employ the same frontal air bag system. Hyundai has produced for sale in the United States 119,469 MY 1999 through 2001 Sonata vehicles, including 23,988 MY 1999, 49,397 MY 2000, and 46,084 MY 2001 vehicles. Hyundai stated in its response that it has received 49 reports of the frontal air bags in MY 1999 Sonata vehicles not deploying in a crash. These reports include two of the four reports that ODI has received directly from consumers. Hyundai received 84 allegations of the air bags not deploying in the MY 2000 vehicles and 63 such allegations with respect to the MY 2001 vehicles.

Hyundai stated in its response, “Many owners do not realize that air bag deployment is not required or beneficial in any and all collisions. Many of these owners believe that an air bag should deploy in any collision event, regardless of collision speed, angles or the type of object that was struck. These owners believe that the existence of any collision-induced damage is proof that air bags should have deployed in a collision.”

Each manufacturer designs its vehicles so the air bags will deploy if the severity of a crash exceeds a certain threshold. However, there is no Federal requirement establishing a particular threshold. Most manufacturers design their frontal air bags to deploy when the crash severity is in the range of an 8 to 14 mph crash into a fixed solid barrier. This severity is about the same as a crash into another vehicle of equivalent weight at 16 to 28 mph. In lower speed crashes, where the air bag does not deploy, occupant protection is provided by the design of the interior surfaces in the vehicle, as well as by the safety belts provided at each seating position.

In a crash, a number of factors, other than crash severity, can affect whether an air bag will deploy; e.g., the angle of impact, the speed of the other vehicle, and the amount of force absorbed by the other vehicle or object that is impacted. Only an expert in crash reconstruction can provide an educated opinion as to whether the air bag in a vehicle should have deployed in a specific crash.

Hyundai included in its response police accident reports, crash analyses, photographs, and other information with respect to many of the consumer complaints. This information indicates that there have not been any reports of front seat occupants sustaining fatal or incapacitating injuries as a result of any of these incidents. The injuries were relatively minor, such as bruising, lacerations, and whiplash.

From the narrative complaint data, police accident reports, and photographs of the crashed vehicles, it appears that most of the incidents involved minor bumper or under-ride damage where the vehicle's front structure was not impacted. In those cases where Hyundai inspected the air bag electronic control module for a possible system failure, there were no diagnostic fault codes found. According to Hyundai, the modules appeared to have been operating properly in those vehicles.

Some of the vehicle owners stated that the driver's frontal air bag deployed, but the passenger's frontal air bag did not. In those instances in which the front passenger seat was unoccupied, the vehicle performed as designed. The subject vehicles are equipped with a front passenger occupant detection system and will only deploy the passenger air bag when the passenger seat is occupied.

Hyundai has recalled the subject vehicles (Recall numbers 01V347000, 02V105000 and 01V15002) to address safety defects related to the side impact air bag system. Recall 01V347000 pertained to the air bag warning light illuminating due to motion of the side impact air bag wiring harness and the side impact air bag wiring harness connector. According to Hyundai, if the air bag light is illuminated as a result of this issue or the recall remedy was not performed, it would not affect the performance of the frontal air bag system. Recalls 02V105000 and 01V15002 also concern the side impact air bag wiring harness connector not being securely fastened to the side impact air bag wiring harness. If the connection is not secure, the air bag warning light could illuminate, and the side impact air bags may not deploy in an appropriate crash. Again, these recalls are unrelated to the performance of the frontal air bags in these vehicles.

In view of the foregoing, it is unlikely that the NHTSA would issue an order for the notification and remedy of the alleged defect as defined by the petitioner at the conclusion of the investigation requested in the petition. Therefore, in view of the need to allocate and prioritize the NHTSA's limited resources to best accomplish the agency's safety mission, the petition is denied.

Authority: 49 U.S.C. 30162(d); delegations of authority at CFR 1.50 and 501.8.

Issued: July 28, 2003.
Kenneth N. Weinstein,
Associate Administrator for Enforcement.

[FR Doc. 03-19546 Filed 7-31-03; 8:45 am]

BILLING CODE 4910-59-P